DEPARTMENT OF STATE

[Public Notice 8083]

Application for a Presidential Permit To Operate and Maintain Pipeline Facilities on the Border of the United States and Canada

AGENCY: Department of State.

ACTION: Notice of Receipt of Application for a Presidential Permit to Operate and Maintain Pipeline Facilities on the Border of the United States and Canada.

SUMMARY: Notice is hereby given that the Department of State (DOS) has received from NOVA Chemicals Inc. (“NOVA Inc.”) notice that by way of corporate succession, NOVA Inc. now owns, operates, and maintains three pipeline facilities (Lines 16, 18 and 19) previously owned by Polysar Hydrocarbons Inc. (“Polysar”) and permitted under a 1986 Presidential Permit issued to Polysar. NOVA Inc. requests a new Presidential Permit be issued under its name with respect to Lines 16, 18 and 19.

NOVA Inc. is incorporated in the State of Delaware and is a wholly-owned subsidiary of NOVA Chemicals Corporation (“NOVA Corporation”). NOVA Corporation is a company continued under the laws of the Province of New Brunswick, Canada. All of the issued and outstanding shares of NOVA Corporation are owned by a wholly owned subsidiary of the International Petroleum Investment Corporation (“IPIC”) which is wholly owned by the government of the Emirate of Abu Dhabi, United Arab Emirates.

Polysar received a Presidential Permit in 1986 to construct Lines 16, 18 and 19. and transport natural gas liquids (NGLs), propylene, and ethylene between the United States and Canada. Lines 16, 18 and 19 each consist of approximately 1,350 feet of pipeline extending from a block valve site in St. Clair County, Michigan near the City of Marysville to the international border with Canada. NOVA Inc. anticipates no change in the operations of Lines 16, 18 and 19 relative to those that were authorized by the 1986 Presidential Permit.

Under E.O. 13337 the Secretary of State is designated and empowered to receive all applications for Presidential Permits for the construction, connection, operation, or maintenance at the borders of the United States, of facilities for the exportation or importation of liquid petroleum, petroleum products, or other non-gaseous fuels to or from a foreign country. The Department of State is circulating this application to concerned federal agencies for comment. The Department of State has the responsibility to determine whether issuance of a new Presidential Permit reflecting the change in ownership or control of Lines 16, 18, and 19 would be in the U.S. national interest.

DATES: Interested parties are invited to submit comments within 30 days of the publication date of this notice by email to Novachemicalpermit@state.gov with regard to whether issuing a new Presidential Permit reflecting the corporate succession and authorizing NOVA, Inc. to operate and maintain Lines 16, 18, and 19 would be in the national interest. The application is available at http://www.state.gov/e/enr/c52945.htm.

FOR FURTHER INFORMATION CONTACT: Office of Energy Diplomacy, Energy Resources Bureau (ENR/EDP/EWA), Department of State, 2201 C St. NW., Ste 4843, Washington, DC 20520, Attn: Michael Brennan, Tel: 202-647-7553.

Douglas R. Kramer,
Acting Director, Office of Europe, Western Hemisphere and Africa, Bureau of Energy Resources, U.S. Department of State.

[FR Doc. 2012-27331 Filed 11-7-12; 8:45 am]

BILLING CODE 4710-09-P